NATIONAL AERONAUTICS AND SPACE ADMINISTRATION

[Notice (08-018)]

National Environmental Policy Act; Space Shuttle Program

AGENCY: National Aeronautics and Space Administration (NASA).

ACTION: Notice of availability of the Draft Programmatic Environmental Assessment (PEA) for Space Shuttle Program (SSP) transition and property disposal.

SUMMARY: Pursuant to the National Environmental Policy Act of 1969, as amended (NEPA) (42 U.S.C. 4321 et seq.), the Council on Environmental Quality Regulations for Implementing the Procedural Provisions of NEPA (40 CFR Parts 1500-1508), NASA's NEPA policy and procedures (14 CFR Part 1216, Subpart 1216.3), and Executive Order 12114, Environmental Effects Abroad of Major Federal Actions, NASA has prepared and issued a Draft PEA for proposed Space Shuttle Program transition and property disposal activities to assist in the NASA decision making process. The Proposed Action is to implement a structured process for the disposition of the SSP real and personal property consisting of a coordinated series of actions. The focus of the SSP Transition and Property Disposal activity is to evaluate SSP real and personal property in accordance with NASA Procedural Requirements (NPR) 8800.15, “Real Estate Management Program Implementation Manual,” and NPR 4300.1, “NASA Personal Property Disposal Procedural Requirements,” to select the best option for disposition. The only alternative to the Proposed Action discussed in detail is the No Action Alternative where disposition of SSP property would be unplanned rather than being accomplished in a systematic and orderly process. At a minimum, NASA would reduce maintenance to levels consistent with Federal Government standards for excess and surplus properties (i.e., 41 CFR 101-47.401 and 101-47.4913).

DATES: Interested parties are invited to submit comments on environmental issues and concerns, preferably in writing, on or before March 28, 2008, or 30 days from the date of publication in the Federal Register of this notice, whichever is later.

ADDRESSES: Comments submitted via first class, registered, or certified mail should be addressed to AS10/Environmental NEPA Coordinator, SSP Transition & Retirement Program, NASA Marshall Space Fight Center, Building 4249/100C, MSFC, Alabama 35812. While hard copy comments are preferred, comments may be submitted via electronic mail to: nasa-sspea@mail.nasa.gov.

The Draft PEA may be reviewed at the following location:

(a) NASA Headquarters, Library, Room 1J20, 300 E Street, SW., Washington, DC 20546-0001 (202-358-0168).

It also may be examined at the following locations by contacting the pertinent Freedom of Information Act Office:

(b) NASA, George C. Marshall Space Flight Center, Huntsville, AL 35812 (256-544-1837); and

(c) NASA, John F. Kennedy Space Center, FL 32899 (321-867-2745).

Hard copies of the Draft PEA also may be viewed at other NASA Centers (see SUPPLEMENTARY INFORMATION below).

Limited hard copies of the Draft PEA are available, on a first request basis, by contacting Donna L. Holland at the address or telephone number indicated herein. The Draft PEA will be available for public review online at the following address: http://www.hq.nasa.gov/osf/relatedlinks.htm.

FOR FURTHER INFORMATION CONTACT: AS10/Environmental Engineering and Occupational Health Office, SSP Transition and Property Disposal, Marshall Space Flight Center, Building 4249/100C, Marshall Space Flight Center, AL 35812, 1-256-544-7201, or electronic mail at Donna.L.Holland@nasa.gov.

SUPPLEMENTARY INFORMATION: The SSP is an extremely large and complex program spanning decades and requiring the efforts of a broad spectrum of talent located throughout NASA and many commercial entities. On January 14, 2004, President George W. Bush presented a new U.S. Space Exploration Policy to the nation. In the announcement, the President directed NASA to use the Space Shuttle to fulfill its obligation to complete assembly of the International Space Station and then to retire the Space Shuttle in 2010. Consequently, SSP Transition and Retirement is being proposed as a structured process for the disposition of SSP real and personal property consisting of a coordinated series of actions. SSP real and personal property would be evaluated in accordance with NPR 8800.15, “Real Estate Management Program Implementation Manual,” and NPR 4300.1, “NASA Personal Property Disposal Procedural Requirements,” to select the best option for disposal. The Draft SSP PEA addresses the environmental impacts associated with implementing a series of actions in the structured process for disposition of SSP real and personal property.

For the purpose of real and personal property disposition, the overall goals of SSP Transition and Retirement are to methodically assess the SSP assets and provide for their disposition in a manner that fully realizes any remaining value of those assets, and to ensure that the actions taken by NASA comply with applicable federal, state and local laws and regulations. The primary decision to be made by NASA, supported by information contained in the PEA, is the manner of disposition of the SSP assets. NASA has applied a systematic and interdisciplinary approach to ensure that the environmental resources at each site were analyzed and potential issues identified for the disposition of SSP-related real and personal property. Shuttle-related personal property includes hundreds of thousands of items ranging from common parts to complex tooling and flight hardware. The disposition of common parts would have no potential for significant impacts to the environment and is not analyzed in the PEA. Personal property, such as complex tooling and flight hardware, may have the potential to adversely affect the environment and is analyzed in the PEA. The environmental impacts of principal concern are those that would result from disposition of Historic Resources. As the SSP approaches the end of its mission, a variety of buildings and facilities at several NASA installations will be modified for other NASA Programs or will no longer be of use to NASA. For any SSP building or facility no longer needed by NASA, NASA will initiate the standard process for addressing excess infrastructure. NASA will conduct any additional NEPA analysis, as necessary and appropriate, before final decisions on the disposition of SSP infrastructure are made. If any such SSP assets are listed or eligible for listing in the National Register of Historic Places, NASA will take no action that would affect any such property until the National Historic Preservation Act Section 106 process is complete.

Under NASA's Proposed Action, SSP transition and property disposal activities would be expected to occur at the following NASA sites:

—Dryden Flight Research Center, Edwards Air Force Base, California

—George C. Marshall Space Flight Center, Huntsville, Alabama

—John F. Kennedy Space Center, Brevard County, Florida

—John C. Stennis Space Center, Hancock County, Mississippi

—Johnson Space Center El Paso Forward Operating Location, El Paso, Texas

—Johnson Space Center Ellington Field, Houston, Texas

—Johnson Space Center White Sands Test Facility (and the U.S. Army's White Sands Missile Range), Las Cruces, New Mexico

—Lyndon B. Johnson Space Center, Houston, Texas

—Langley Research Center, Hampton, Virginia

—Michoud Assembly Facility, New Orleans, Louisiana

The Draft PEA may be viewed at the following NASA locations by contacting the pertinent Freedom of Information Act Office or by telephoning:

(a) NASA, Ames Research Center, Moffett Field, CA 94035 (650-604-3273);

(b) NASA, Dryden Flight Research Center, Edwards, CA 93523 (661-276-2704);

(c) NASA, Glenn Research Center at Lewis Field, Cleveland, OH 44135 (1-866-404-3642);

(d) NASA, Goddard Space Flight Center, Greenbelt, MD 20771 (301-286-4721);

(e) NASA, John C. Stennis Space Center, MS 39529 (228-688-2118);

(f) NASA, Lyndon B. Johnson Space Center, Houston, TX 77058 (281-483-8612);

(g) NASA, Langley Research Center, Hampton, VA 23681 (757-864-2497);

(h) NASA, Michoud Assembly Facility, New Orleans, LA 70189 (504-257-2629); and

(i) NASA, White Sands Test Facility, Las Cruces, NM 88004 (505-524-5024).

In addition the Draft PEA may be examined at:

(j) Jet Propulsion Laboratory, Visitors Lobby, Building 249, 4800 Oak Grove Drive, Pasadena, CA 91109.

Written public input and comments on alternatives and environmental issues and concerns associated with proposed SSP transition and property disposal activities are hereby requested.

Olga M. Dominguez,
Assistant Administrator for Infrastructure and Administration.

[FR Doc. E8-3405 Filed 2-22-08; 8:45 am]

BILLING CODE 7510-13-P